DEPARTMENT OF COMMERCE

Foreign-Trade Zones Board

[B-44-2015]

Authorization of Production Activity; Foreign-Trade Subzone 222A, Hyundai Motor Manufacturing Alabama, LLC (Motor Vehicles), Montgomery, Alabama

On June 5, 2015, the Montgomery Area Chamber of Commerce, grantee of FTZ 222, submitted a notification of proposed production activity to the Foreign-Trade Zones (FTZ) Board on behalf of Hyundai Motor Manufacturing Alabama, LLC, for its facility within Subzone 222A in Montgomery, Alabama.

The notification was processed in accordance with the regulations of the FTZ Board (15 CFR part 400), including notice in the Federal Register inviting public comment (80 FR 38173, July 2, 2015). The FTZ Board has determined that no further review of the activity is warranted at this time. The production activity described in the notification is authorized, subject to the FTZ Act and the FTZ Board's regulations, including Section 400.14.

Dated: October 5, 2015.
Andrew McGilvray,
Executive Secretary.

[FR Doc. 2015-25829 Filed 10-8-15; 8:45 am]

BILLING CODE 3510-DS-P